DEPARTMENT OF COMMERCE

International Trade Administration

[A-469-816]

Carbon and Alloy Steel Wire Rod From Spain: Amended Preliminary Determination of Sales at Less Than Fair Value

AGENCY: Enforcement and Compliance, International Trade Administration, Department of Commerce

SUMMARY: On October 31, 2017, the Department of Commerce (Department) published in the Federal Register the preliminary determination of the less-than-fair-value investigation of carbon and alloy steel wire rod (wire rod) from Spain. The Department is amending its preliminary determination to correct a significant ministerial error.

DATES: Applicable December 7, 2017.

FOR FURTHER INFORMATION CONTACT: Chelsey Simonovich, AD/CVD Operations, Office VI, Enforcement and Compliance, International Trade Administration, U.S. Department of Commerce, 1401 Constitution Avenue NW., Washington, DC 20230; telephone: (202) 482-1979.

SUPPLEMENTARY INFORMATION:

Background

On October 31, 2017, the Department published in the Federal Register the Preliminary Determination ¹ of the less-than-fair-value investigation of wire rod from Spain. On November 6, 2017, Global Steel Wire S.A., CELSA Atlantic S.A., and Companía Española de Laminación (collectively, CELSA) alleged that the Department made a significant ministerial error in the Preliminary Determination.²

¹ See Carbon and Alloy Steel Wire Rod from the Republic of Spain: Preliminary Affirmative Determination of Sales at Less Than Fair Value, and Preliminary Determination of Critical Circumstances, In Part, 82 FR 50390 (October 31, 2017) (Preliminary Determination).

² See CELSA's November 6, 2017 letter, “Antidumping Duty Investigation of Carbon and Alloy Steel Wire Rod from Spain: Significant Ministerial Errors Contained in the Preliminary Determination” (Ministerial Error Allegation).

Scope of the Investigation

The product covered by this investigation is wire rod from Spain. For a full description of the scope of this investigation, see the “Scope of the Investigation,” in the Appendix to this notice.

Significant Ministerial Error

A ministerial error is defined in 19 CFR 351.224(f) as “an error in addition, subtraction, or other arithmetic function, clerical error resulting from inaccurate copying, duplication, or the like, and any other similar type of unintentional error which the Secretary considers ministerial.” A significant ministerial error is defined in 19 CFR 351.224(g) as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa. Further, 19 CFR 351.224(e) provides that the Department “will analyze any comments received and, if appropriate, correct any significant ministerial error by amending the preliminary determination.”

Ministerial Error Allegation

CELSA alleges that the Department double-counted the international freight expenses in the calculation of U.S. net prices, increasing the amount deducted for international movement costs, and increasing the dumping margin. CELSA maintains that correcting this error results in a decrease of more than five absolute percentage points in, but not less than 25 percent of, the weighted-average dumping margin, thereby meeting the definition of “significant” pursuant to 19 CFR 351.224(g)(1).³ Additionally, CELSA alleges that the Department has misclassified direct selling expenses in the United States as indirect selling expenses incurred in Spain.

³ See Ministerial Error Allegation.

We find that the Department unintentionally included international freight expenses twice when adjusting U.S. price for movement expense in the margin calculation program.⁴ The Department also unintentionally entered a variable used to capture indirect selling expenses in Spain in the program calculation for direct selling expenses in the United States.⁵ These errors constitute ministerial errors within the meaning of 19 CFR 351.224(f).⁶ Moreover, correcting these ministerial error changes the margin from 20.25 percent to 10.61 percent, thereby making these errors significant ministerial errors within the meaning of 19 CFR 351.224(g)(1).⁷

⁴ See Department Memorandum: “Preliminary Determination Calculation for Global Steel Wire Rod, CELSA Atlantic S.A., and Compania Espanola de Laminacion in the Antidumping Duty Investigation of Certain Carbon and Alloy Steel Wire Rod from Spain,” dated October 24, 2017, at 8.

⁵ Id.

⁶ See DOC Memorandum: “Allegation and Analysis of Ministerial Error in the Preliminary Determination,” dated concurrently with this memorandum (Ministerial Error Analysis Memorandum).

⁷ See DOC Memorandum: “Amended Preliminary Determination Calculation for CELSA,” dated concurrently with this memorandum (Amended Calculation Memo).

Amended Preliminary Determination

We are amending the Preliminary Determination to reflect the correction of ministerial errors made in the margin calculation for CELSA. In addition, because the “All-Others” rate in the Preliminary Determination was based on the estimated weighted-average dumping margin calculated for CELSA,⁸ we are, consistent with section 735(c)(5)(A) of the Tariff Act of 1930, as amended (the Act), also amending the “All-Others” rate. As a result of the correction of the ministerial error, the revised weighted-average dumping margins are as follows:

⁸ See Preliminary Determination, 82 FR at 50390.

Exporter/manufacturer | Weighted- average dumping margin (percent)
Global Steel Wire S.A./CELSA Atlantic S.A./Companía Española de Laminación | 10.61
All-Others | 10.61

Amended Cash Deposits and Suspension of Liquidation

The collection of cash deposits and suspension of liquidation will be revised according to the rates established in this amended preliminary determination, in accordance with section 733(d) and (f) of the Act and 19 CFR 351.224. Because the rates are decreasing from the Preliminary Determination, the amended cash deposit rates will be effective retroactively to October 31, 2107, the date of publication of the Preliminary Determination notice in the Federal Register.

International Trade Commission Notification

In accordance with section 733(f) of the Act, we notified the International Trade Commission of our amended preliminary determination.

Disclosure

We intend to disclose the calculations performed to parties in this proceeding within five days after public announcement of the amended preliminary determination, in accordance with 19 CFR 351.224.

This amended preliminary determination is issued and published in accordance with sections 733(f) and 777(i) of the Act and 19 CFR 351.224(e).

Dated: December 1, 2017.
Gary Taverman,
Deputy Assistant Secretary for Antidumping and Countervailing Duty Operations, performing the non-exclusive functions and duties of the Assistant Secretary for Enforcement and Compliance.

Appendix—Scope of the Investigation

The products covered by this investigation are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products under investigation are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this proceeding is dispositive.

[FR Doc. 2017-26401 Filed 12-6-17; 8:45 am]

BILLING CODE 3510-DS-P